ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, March 9-11, 2015 at the times and location listed below.

DATES: The schedule of events is as follows:

Monday, March 9, 2015

11:00 a.m.-4:00 p.m. Ad Hoc Committee Meetings; Closed to Public.

Tuesday, March 10, 2015

9:30-10:00 a.m. Budget Committee.

10:30—11:00 Technical Programs Committee.

11:00—Noon Planning and Evaluation Committee.

1:30—3:30 p.m. Ad Hoc Committee on Frontier Issues.

Wednesday, March 11, 2015

1:30—3:00 p.m. Board Meeting.

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, March 11, 2015, the Access Board will consider the following agenda items:

• Approval of the draft January 14, 2015 meeting minutes (vote);

• Ad Hoc Committee Reports: Self-Service Transaction Machines; Information and Communications Technologies; Design Guidance; Public Rights-of-Way and Shared Use Paths; Passenger Vessels; Frontier Issues; Transportation Vehicles (vote); and Medical Diagnostic Equipment;

• Budget Committee;

• Planning and Evaluation Committee;

• Technical Programs Committee;

• Election Assistance Commission Report;

• Election of Officers (vote);

• Executive Director's Report.

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/the-board/policies/fragrance-free-environment for more information).

David M. Capozzi,
Executive Director.

[FR Doc. 2015-03410 Filed 2-18-15; 8:45 am]

BILLING CODE 8150-01-P